DEPARTMENT OF ENERGY

Idaho Operations Office; Notice of Availability of Solicitation for Awards of Financial Assistance

AGENCY: Idaho Operations Office, DOE.

ACTION: Notice of availability of solicitation—Aluminum Visions of the Future.

SUMMARY: The U.S. Department of Energy (DOE) Idaho Operations Office (ID) is seeking applications for cost-shared research and development of technologies which will reduce energy consumption, reduce environmental impacts and enhance economic competitiveness of the domestic aluminum industry. The research is to address research priorities identified by the aluminum industry in the Aluminum Industry Technology Roadmap and the Inert Anode Roadmap, (available at the following URL: http://www.oit.doe.gov/aluminum/alindust.shtml).

DATES: The Standard Form 424, and the technical application (20 page maximum), must be submitted by 3:00 p.m. MST on Wednesday, July 12, 2000.

ADDRESSES: Applications should be submitted to: Elizabeth Dahl, Contract Specialist, Procurement Services Division, U.S. Department of Energy, Idaho Operations Office, 850 Energy Drive, Mail Stop 1221, Idaho Falls, Idaho 83401-1563.

FOR FURTHER INFORMATION CONTACT: Elizabeth Dahl, Contract Specialist at dahlee@id.doe.gov, facsimile at (208) 526-5548, or by telephone at (208) 526-7214.

SUPPLEMENTARY INFORMATION: Approximately $3,000,000 in combined fiscal year 2000 and 2001 federal funds is expected to be available to totally fund the first year of selected research efforts. DOE anticipates making four to six awards each with a duration of four years or less. This solicitation is requiring 50% cost share to ensure industrial involvement in each of the proposals and to ensure that the novel, energy efficient processes developed by this R&D program will be fully implemented by industry. There will be no waivers of this cost share requirement. Multi-partner collaborations between industry, university, and National Laboratory participants are encouraged. The issuance date of Solicitation Number DE-PS07-00ID13914 is on or about May 8, 2000. The solicitation is available in its full text via the Internet at the following address: http://www.id.doe.gov/doeid/PSD/proc-div.html. The statutory authority for this program is the Federal Non-Nuclear Energy Research and Development Act of 1974 (Public Law 93-577). The Catalog of Federal Domestic Assistance (CFDA) Number for this program is 81.086.

Issued in Idaho Falls on May 3, 2000.
R.J. Hoyles,
Director, Procurement Services Division.

[FR Doc. 00-11728 Filed 5-9-00; 8:45 am]

BILLING CODE 6450-01-P